DEPARTMENT OF THE INTERIOR

Bureau of Land Management

[LLAK963000-L14300000-ET0000; F-90576]

Public Land Order No. 7823; Extension of Public Land Order No. 7032; Alaska

AGENCY: Bureau of Land Management, Interior.

ACTION: Public Land Order.

SUMMARY: This order extends the duration of the withdrawal created by Public Land Order No. 7032, issued effective March 10, 1994, for an additional 20-year period. The extension is necessary to continue protection of the archaeological, historical, and cultural resource integrity of the Paleoindian site known as Mesa Site, which would otherwise expire on March 9, 2014.

DATES: Effective Date: March 10, 2014.

FOR FURTHER INFORMATION CONTACT: Robert L. Lloyd, BLM Alaska State Office, 222 West 7th Avenue, No. 13, Anchorage, AK 99513-7504. Persons who use a telecommunications device for the deaf (TDD) may call the Federal Information Relay Service (FIRS) at 1-800-877-8339 to contact either of the above individuals. The FIRS is available 24 hours a day, 7 days a week, to leave a message or question with the above individuals. You will receive a reply during normal business hours.

SUPPLEMENTARY INFORMATION: The purpose for which the withdrawal was first made requires this extension to continue to protect the archaeological, historical, and cultural resource integrity of the Paleoindian site known as Mesa Site. The withdrawal extended by this order will expire on March 9, 2034, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 7032 (59 FR 11196 (1994)), which withdrew approximately 2,560 acres of public land from settlement, sale, location, or entry under the general land laws, and from location and entry under the United States mining laws, but not from mineral leasing, to protect the archaeological, historical, and cultural resource integrity of the Paleoindian site known as Mesa Site, is hereby extended for an additional 20-year period until March 9, 2034.

Dated: February 26, 2014.
Anne J. Castle,
Assistant Secretary—Water and Science.

[FR Doc. 2014-05278 Filed 3-10-14; 8:45 am]

BILLING CODE 4310-JA-P